DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 4, 2006.

Interested persons are invited to submit written comments regarding the subject matter of the investigations to the Director, Division of Trade Adjustment Assistance, at the address shown below, not later than December 4, 2006.

The petitions filed in this case are available for inspection at the Office of the Director, Division of Trade Adjustment Assistance, Employment and Training Administration, U.S. Department of Labor, Room C-5311, 200 Constitution Avenue, NW., Washington, DC 20210.

Signed at Washington, DC this 14th day of November 2006.
Richard Church,
Certifying Officer, Division of Trade Adjustment Assistance.

Appendix
[TAA Petitions Instituted Between 11/6/06 and 11/9/06]
TA-W | Subject Firm (Petitioners) | Location | Date of institution | Date of petition
60365 | KHS USA Inc. (Comp) | Waukesha, WI | 11/06/06 | 11/03/06
60366 | Jones Apparel Group (Wkrs) | New York, NY | 11/06/06 | 11/03/06
60367 | Ford Motor Company (UAW) | Norfolk, VA | 11/06/06 | 10/31/06
60368 | Ross Mould, Inc. (USWA) | Washington, PA | 11/06/06 | 10/27/06
60369 | Hoover Precision Products, Inc. (Comp) | East Granby, CT | 11/07/06 | 10/19/06
60370 | Radio Frequency Systems, Inc. (Wkrs) | Meriden, CT | 11/07/06 | 11/06/06
60371 | Groupo Antolin North America (Wkrs) | Auburn Hills, MI | 11/07/06 | 11/06/06
60372 | International Truck and Engine (Comp) | Warrenville, IL | 11/07/06 | 11/02/06
60373 | Admiral Tool & Mfg. Co. of Illinois (Comp) | Chicago, IL | 11/07/06 | 11/04/06
60374 | Alarama Jewelry Inc. (Wkrs) | Long Island City, NY | 11/07/06 | 11/03/06
60375 | Paramount Cards, Inc. (Comp) | Huntersville, NC | 11/07/06 | 11/07/06
60376 | Creative Engineered Polymer Products (Union) | Middlefield, OH | 11/07/06 | 11/07/06
60377 | Springfield LLC (Comp) | Rockhill, SC | 11/07/06 | 11/03/06
60378 | Chemtrade Logistics (Wkrs) | Carlisle, SC | 11/07/06 | 11/03/06
60379 | Springfield LLC—Limestone Plant (Comp) | Gaffney, SC | 11/07/06 | 11/03/06
60380 | Delta Woodside Industries (Comp) | Wallace, SC | 11/08/06 | 11/02/06
60381 | Creative Engineered Polymer Products (Union) | Canton, OH | 11/08/06 | 11/06/06
60382 | Guide Anderson LLC (UAW) | Anderson, IN | 11/08/06 | 11/07/06
60383 | Bernard Chaus, Inc. (Union) | New York, NY | 11/08/06 | 11/03/06
60384 | Roanoke Furniture (Wkrs) | Columbus, OH | 11/08/06 | 11/07/06
60385 | Maxtor Corporation (Wkrs) | Longmont, CO | 11/08/06 | 11/06/06
60386 | Willamette Dental/Lab (Comp) | Vancouver, WA | 11/08/06 | 11/06/06
60387 | Arimon Technologies (Comp) | Manitowoc, WI | 11/08/06 | 11/01/06
60388 | Hartz & Co (Wkrs) | New York, NY | 11/08/06 | 11/06/06
60389 | Starkey Lab, Inc. (Wkrs) | Glencoe, MN | 11/09/06 | 11/08/06
60390 | Everett Charles Technologies (Wkrs) | San Jose, CA | 11/09/06 | 11/09/06
60391 | TI Group Automotive Systems, LLC (Wkrs) | Washington Courthouse, OH | 11/09/06 | 11/02/06
60392 | Carolina Toll Manufacturing Inc. (Wkrs) | Baton Rouge, LA | 11/09/06 | 11/08/06
60393 | RR Donelley Warsaw Division (Wkrs) | Warsaw, IN | 11/09/06 | 10/05/06
60394 | Airtomic (Comp) | Jeffersonville, IN | 11/09/06 | 10/19/06
60395 | Wellman, Inc.—Johnsonville, SC Plant (Comp) | Johnsonville, SC | 11/09/06 | 10/27/06
60396 | Suntec Industries, Inc. (Wkrs) | Glasgow, KY | 11/09/06 | 11/06/06

[FR Doc. E6-19712 Filed 11-21-06; 8:45 am]

BILLING CODE 4510-30-P